DEPARTMENT OF COMMERCE

International Trade Administration

(A-570-851)

Certain Preserved Mushrooms from the People's Republic of China: Final Results of the Antidumping Duty New Shipper Review

AGENCY: Import Administration, International Trade Administration, Department of Commerce.

SUMMARY: On July 7, 2006, the Department of Commerce (“the Department”) published in the Federal Register the preliminary results of the new shipper review of the antidumping duty order on certain preserved mushrooms from the People's Republic of China (“PRC”) for Guangxi Eastwing Trading Co., Ltd. (“Eastwing”). See Certain Preserved Mushrooms from the People's Republic of China: Preliminary Results of the Antidumping Duty New Shipper Review, 71 FR 38617 (July 7, 2006) (“Preliminary Results”). We gave interested parties an opportunity to comment on the Preliminary Results. Although no party submitted a case brief, additional surrogate value information has been placed on the record subsequent to the Preliminary Results by both Eastwing and the Department. Based on our analysis of the surrogate value information, we made changes to the antidumping duty margin calculations for the final results. We continue to find that Eastwing sold subject merchandise at less than normal value during the period of review (“POR”) February 1, 2005, through August 15, 2005.

EFFECTIVE DATE: November 17, 2006.

FOR FURTHER INFORMATION CONTACT: Matthew Renkey, AD/CVD Operations, Office 9, Import Administration, International Trade Administration, U.S. Department of Commerce, 14th Street and Constitution Avenue, NW, Washington, DC 20230; telephone: (202) 482-2312.

SUPPLEMENTARY INFORMATION:

Case History

Subsequent to the Preliminary Results, on July 27, 2006, Eastwing timely submitted publicly available surrogate value information for the Department to consider in valuing the factors of production. Eastwing did not file a case brief. On September 11, 2006, the Department sent Eastwing a letter asking it to clarify certain information contained in its July 27, 2006, filing, and also placed on the record for comment additional surrogate value information. On September 21, 2006, Eastwing submitted a timely response and comments in reply to the Department's September 11, 2006, letter. On September 28, 2006, the Department published in the Federal Register a notice extending the deadline for the final results. See Certain Preserved Mushrooms from the People's Republic of China: Extension of Time Limit for Final Results of the 2005 Antidumping Duty New Shipper Review, 71 FR 56954 (September 28, 2006). Also on September 28, 2006, the Department placed on the record additional surrogate value information for consideration in valuing the factors of production. Eastwing did not comment on this information.

Scope of the Order

The products covered by this order are certain preserved mushrooms, whether imported whole, sliced, diced, or as stems and pieces. The certain preserved mushrooms covered under this order are the species Agaricus bisporus and Agaricus bitorquis. “Certain Preserved Mushrooms” refer to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 39C F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Changes Since the Preliminary Results

Based on surrogate value comments received from Eastwing and information placed on the record by the Department subsequent to our Preliminary Results, we have made revisions to the margin calculation for the final results. Specifically, we have selected new surrogate values for the manure and straw factors of production because the manure and straw corresponding to these new surrogate values better match the inputs used in the production of the subject merchandise. We have also selected new information to use in calculating the financial ratios for factory overhead, selling, general and administrative expenses, and profit. The new financial information, unlike the data used in the Preliminary Results, is contemporaneous with the POR and offers a broader representation of the industry. See Memorandum from Matthew Renkey, Senior Analyst, through Alex Villanueva, Program Manager, Office 9, to the File; New Shipper Review of Certain Preserved Mushrooms from the People's Republic of China: Surrogate Values for the Final Results, dated November 9, 2006 (“Final Surrogate Values Memo”). Our calculation incorporating the new surrogate value data can be found in the Memorandum from Matthew Renkey, Senior Analyst, through Alex Villanueva, Program Manager, Office 9, to the File; Analysis for the Final Results of the New Shipper Review of Certain Preserved Mushrooms from the Peoples' Republic of China: Guangxi Eastwing Trading Co., Ltd. (“Final Analysis Memo”). Lastly, for the Preliminary Results, we inadvertently did not multiply the freight distance and surrogate value by the corresponding factor usage ratio; we have corrected this clerical error in the freight calculation for these final results. Id.

Final Results of Review

We find that the following margin exists during the period February 1, 2005, through August 15, 2005:

Exporter/Manufacturer | Weighted—Average Margin (Percent)
Guangxi Eastwing Trading Co., Ltd./Raoping CXF Foods, Inc. | 4.31

Assessment Rates

The Department will issue appropriate appraisement instructions directly to U.S. Customs and Border Protection (“CBP”) for Eastwing within 15 days of publication of the final results of this review. Pursuant to 19 CFR 351.212(b)(1), we will calculate importer—specific ad valorem duty assessment rates based on the ratio of the total amount of the dumping margins calculated for the examined sales to the total entered value of those same sales. We will instruct CBP to assess antidumping duties on all appropriate entries covered by this review if any importer—specific assessment rate calculated in the final results of this review is above de minimis.

Cash Deposit Requirements

The following cash deposit requirements will be effective upon publication of these results of the new shipper review for all shipments of subject merchandise from Eastwing entered, or withdrawn from warehouse, for consumption on or after the publication date: (1) For subject merchandise manufactured by Raoping CXF Foods, Inc. (“CXF”) and exported by Eastwing, the cash deposit rate will be the rate shown above; (2) for subject merchandise exported by Eastwing but not manufactured by CXF, the cash deposit rate will continue to be the PRC—wide rate (i.e., 198.63 percent); and (3) for subject merchandise produced by CXF but not exported by Eastwing, the cash deposit rate will be the rate applicable to the exporter. These requirements will remain in effect until publication of the final results of the next administrative review.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This new shipper review and notice are in accordance with sections 751(a)(1), 751(a)(2)(B), and 777(i) of the Act and 19 CFR 351.214(h).

Dated: November 9, 2006.
David M. Spooner,
Assistant Secretary for Import Administration.

[FR Doc. E6-19471 Filed 11-16-06; 8:45 am]

BILLING CODE 3510-DS-S